DEPARTMENT OF HOUSING AND URBAN DEVELOPMENT

[Docket No. FR-4644-N-17]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by the Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Ms. Shirley Middleswarth, Army Corps of Engineers, Management & Disposal Division, 441 G Street, Washington, DC 20314-1000; (202) 761-7425; DOT: Mr. Rugene Spruill, Space Management, SVC-140, Transportation Administrative Service Center, Department of Transportation, 400 7th Street, SW., Room 2310, Washington, DC 20590; (202) 366-4246; ENERGY: Mr. Tom Knox, Department of Energy, Office of Contract & Resource Management, MA-53, Washington, DC 20585; (202) 586-8715; GSA: Mr. Brian K. Polly, Assistant Commissioner, General Services Administration, Office of Property Disposal, 18th and F Streets, NW., Washington, DC 20405; (202) 501-0052; INTERIOR: Ms. Linda Tribby, Acquisition & Property Management, Department of the Interior, 1849 C Street, NW., Washington, DC 20240; (202) 606-3139; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: April 19, 2001.
John D. Garrity,
Director, Office of Special Needs Assistance Programs.

Title V, Federal Surplus Property Program Federal Register Report for 4/27/01

Suitable/Available Properties

Buildings (by State)

Alaska

Bldg. 736

CG Integrated Support Command

Kodiak Co: AK 99615-

Landholding Agency: DOT

Property Number: 87200110026

Status: Excess

Comment: 6912 sq. ft., presence of asbestos/lead paint, most recent use—residential, off-site use only.

Bldg. 738

CG Integrated Support Command

Kodiak Co: AK 99615-

Landholding Agency: DOT

Property Number: 87200110027

Status: Excess

Comment: 5336 sq. ft., presence of asbestos/lead paint, most recent use—residential, off-site use only.

Bldg. 740

CG Integrated Support Command

Kodiak Co: AK 99615-

Landholding Agency: DOT

Property Number: 87200110028

Status: Excess

Comment: 6912 sq. ft., presence of asbestos/lead paint, most recent use—residential, off-site use only.

Bldg. 745

CG Integrated Support Command

Kodiak Co: AK 99615-

Landholding Agency: DOT

Property Number: 87200110029

Status: Excess

Comment: 5336 sq. ft., presence of asbestos/lead paint, most recent use—residential, off-site use only.

Bldg. 746

CG Integrated Support Command

Kodiak Co: AK 99615-

Landholding Agency: DOT

Property Number: 87200110030

Status: Excess

Comment: 5336 sq. ft., presence of asbestos/lead paint, most recent use—residential, off-site use only.

Bldg. 748

CG Integrated Support Command

Kodiak Co: AK 99615-

Landholding Agency: DOT

Property Number: 87200110031

Status: Excess

Comment: 5336 sq. ft., presence of asbestos/lead paint, most recent use—residential, off-site use only.

Bldg. 761

CG Integrated Support Command

Kodiak Co: AK 99615-

Landholding Agency: DOT

Property Number: 87200110032

Status: Excess

Comment: 6912 sq. ft., presence of asbestos/lead paint, most recent use—residential, off-site use only.

Bldg. 762

CG Integrated Support Command

Kodiak Co: AK 99615-

Landholding Agency: DOT

Property Number: 87200110033

Status: Excess

Comment: 6912 sq. ft., presence of asbestos/lead paint, most recent use—residential, off-site use only.

Bldg. 763

CG Integrated Support Command

Kodiak Co: AK 99615-

Landholding Agency: DOT

Property Number: 87200110034

Status: Excess

Comment: 6912 sq. ft., presence of asbestos/lead paint, most recent use—residential, off-site use only.

Bldg. 770

CG Integrated Support

Command

Kodiak Co: AK 99615-

Landholding Agency: DOT

Property Number: 872000110035

Status: Excess

Comment: 6912 sq. ft., presence of asbestos/lead paint, most recent use—residential, off-site use only.

Indiana

Radio Tower

Cannelton Locks & Dam

Cannelton Co: IN 47520-

Landholding Agency: COE

Property Number: 31200110006

Status: Unutilized

Comment: 88 sq. ft.

Kentucky

Soc. Sec. Admin. Fed. Bldg.

614 Master Street

Corbin Co: KY 40702-

Landholding Agency: GSA

Property Number: 54200120001

Status: Excess

Comment: Approx. 9078 sq. ft., some repair needed, presence of asbestos/lead paint, most recent use—offices

GSA Number: 4-G-KY-609.

Maryland

Bldg. 104

Naval Surface Warfare

Carderock Division

West Bethesda Co: Montgomery MD 20817-5700

Landholding Agency: Navy

Property Number: 77200120079

Status: Unutilized

Comment: 8050 sq. ft., most recent use—garage, off-site use only.

Bldg. 109

Naval Surface Warfare

West Bethesda Co: Montgomery MD 20817-5000

Landholding Agency: Navy

Property Number: 77200120080

Status: Unutilized

Comment: 9650 sq. ft., needs rehab, possible asbestos/lead paint, most recent use—storage, off-site use only.

Bldg. 110

Naval Surface Warfare

West Bethesda Co: Montgomery MD 20817-5700

Landholding Agency: Navy

Property Number: 77200120081

Status: Unutilized

Comment: 10,750 sq. ft., needs rehab, presence of asbestos/lead paint, most recent use—storage, off-site use only.

Bldg. 111

Naval Surface Warfare

West Bethesda Co: Montgomery MD 20817-5700

Landholding Agency: Navy

Property Number: 77200120082

Status: Unutilized

Comment: 4220 sq. ft., most recent use—office, off-site use only.

Bldg. 112

Naval Surface Warfare

West Bethesda Co: Montgomery MD 20817-5700

Landholding Agency: Navy

Property Number: 77200120083

Status: Unutilized

Comment: 2440 sq. ft., most recent use—printing bldg., off-site use only.

Bldg. 113

Naval Surface Warfare

West Bethesda Co: Montgomery MD 20817-5700

Landholding Agency: Navy

Property Number: 77200120084

Status: Unutilized

Comment: 2440 sq. ft., most recent use—lab, off-site use only.

Bldg. 143

Naval Surface Warfare

West Bethesda Co: MD 20817-5700

Property Number: 77200120085

Status: Unutilized

Comment: 16,950 sq. ft., needs rehab, presence of asbestos/lead paint, most recent use—storage, off-site use only.

Bldg. 152

Naval Surface Warfare

West Bethesda Co: Montgomery MD 20817-5700

Property Number: 77200120086

Status: Unutilized

Comment: 1400 sq. ft., most recent use—fire house annex, off-site use only.

Bldg. 159

Naval Surface Warfare

West Bethesda Co: Montgomery MD 20817-5700

Property Number: 77200120087

Status: Unutilized

Comment: 605sq. ft., needs rehab, presence of asbestos/lead paint, most recent use—hazardous storage, off-site use only.

Bldg. 187

Naval Surface Warfare

West Bethesda Co: Montgomery MD 20817-5700

Property Number: 77200120088

Status: Unutilized

Comment: 768sq. ft., most recent use—pump house, off-site use only.

New Mexico

Qtrs. No. 1

Cochiti Lake Project

Pena Blanca Co: Sandoval NM 87041-

Landholding Agency: COE

Property Number: 31200110003

Status: Unutilized

Comment: 1400 sq. ft., presence of asbestos/lead paint, most recent use—storage/residential, off-site use only.

Qtrs. No. 2

Cochiti Lake Project

Pena Blanca Co: Sandoval NM 87041-

Landholding Agency: COE

Property Number: 31200110004

Status: Unutilized

Comment: 1400 sq. ft., presence of asbestos/lead paint, most recent use—storage/residential, off-site use only.

Qtrs. No. 3

Cochiti Lake Project

Pena Blanca Co: Sandoval NM 87041-

Landholding Agency: COE

Property Number: 31200110005

Status: Unutilized

Comment: 1400 sq. ft., presence of asbestos/lead paint, most recent use—storage/residential, off-site use only.

Tennessee

Marine Corps Rsv Center

2109 W. Market St.

Johnson City Co: Washington TN 37604-

Landholding Agency: GSA

Property Number: 54200120003

Status: Surplus

Comment: 4 bldgs., presence of asbestos/lead paint, possible environmental restrictions, most recent use—training/storage

GSA Number: 4-N-TN-0651.

Texas

Tract No. 104-44

8918 Graf Road

San Antonio Co: Bexar, TX 78223—

Landholding Agency: Interior

Property Number: 61200120012

Status: Unutilized

Comment: 1210 sq. ft., most recent use—residential, off-site use only.

Tract No. 110-01

1234 S. Presa

San Antonio Co: Bexar, TX 78210—

Landholding Agency: Interior

Property Number: 61200120013

Status: Unutilized

Comment: 1100 sq. ft., most recent use—residential, off-site use only.

Georgia

U.S. Post Office/Courthouse

337 W. Broad St.

Albany Co: Dougherty GA 31702-

Landholding Agency: GSA

Property Number: 54200120002

Status: Excess

Comment: 4800 sq. ft., presence of asbestos/lead paint, historic preservation covenants, most recent use—Fed. ofcs/P.O./Courthouse

GSA Number: 4-G-GA-866A.

California

Bldg. 121 SNI

Naval Air Weapons Station

China Lake Co: CA 93555-6100

Landholding Agency: Navy

Property Number: 77200120001

Status: Excess

Reason: Extensive deterioration.

Bldg. 121A SNI

Naval Air Weapons Station

China Lake Co: CA 93555-6100

Landholding Agency: Navy

Property Number: 77200120002

Status: Excess

Reason: Extensive deterioration.

Bldg. 121B SNI

Naval Air Weapons Station

China Lake Co: CA 93555-6100

Landholding Agency: Navy

Property Number: 77200120003

Status: Excess

Reason: Extensive deterioration.

Bldg. 137 SNI

Naval Air Weapons Station

China Lake Co: CA 93555-6100

Landholding Agency: Navy

Property Number: 77200120004

Status: Excess

Reason: Extensive deterioration.

Bldg. 223 SNI

Naval Air Weapons Station

China Lake Co: CA 93555-6100

Landholding Agency: Navy

Property Number: 77200120005

Status: Excess

Reason: Extensive deterioration.

Bldg. 171

Naval Base Pt. Loma

San Diego Co: CA 92132-

Landholding Agency: Navy

Property Number: 77200120069

Status: Unutilized

Reason: Secured Area.

Bldg. 336

Naval Base Pt. Loma

San Diego Co: CA 92132-

Landholding Agency: Navy

Property Number: 77200120070

Status: Unutilized

Reason: Secured Area.

Bldg. 338

Naval Base Pt. Loma

San Diego Co: CA 92132-

Landholding Agency: Navy

Property Number: 77200120071

Status: Unutilized

Reason: Secured Area.

Bldg. 339

Naval Base Pt. Loma

San Diego Co: CA 92132-

Landholding Agency: Navy

Property Number: 77200120072

Status: Unutilized

Reason: Secured Area.

Bldg. 345

Naval Base Pt. Loma

San Diego Co: CA 92132-

Landholding Agency: Navy

Property Number: 77200120073

Status: Unutilized

Reason: Secured Area.

Bldg. 354

Naval Base Pt. Loma

San Diego Co: CA 92132-

Landholding Agency: Navy

Property Number: 77200120074

Status: Unutilized

Reason: Secured Area.

Bldg. 355

Naval Base Pt. Loma

San Diego Co: CA 92132-

Landholding Agency: Navy

Property Number: 77200120075

Status: Unutilized

Reason: Secured Area.

Bldg. 357

Naval Base Pt. Loma

San Diego Co: CA 92132-

Landholding Agency: Navy

Property Number: 77200120076

Status: Unutilized

Reason: Secured Area. Extensive deterioration.

Bldg. F-28

Naval Base Pt. Loma

San Diego Co: CA 92132-

Landholding Agency: Navy

Property Number: 77200120077

Status: Unutilized

Reason: Secured Area.

Bldg. F-31

Naval Base Pt. Loma

San Diego Co: CA 92132-

Landholding Agency: Navy

Property Number: 77200120078

Status: Unutilized

Reason: Secured Area.

Colorado

Bldg. 125

Rocky Flats Env. Tech. Site

Golden Co: Jefferson CO 80020-

Landholding Agency: Energy

Property Number: 41200120001

Status: Excess

Reasons: Within 2000 ft. of flammable or explosive material. Secured Area.

Bldg. 333

Rocky Flats Env. Tech. Site

Golden Co: Jefferson CO 80020-

Landholding Agency: Energy

Property Number: 41200120002

Status: Excess

Reasons: Within 2000 ft. of flammable or explosive material. Secured Area.

Connecticut

5 Bldgs.

Naval Submarine Base #1, 3, 80, 154, 426

Groton Co: New London CT 06349-

Landholding Agency: Navy

Property Number: 77200120006

Status: Unutilized

Reason: Extensive deterioration.

Florida

Bldg. 369

Naval Station

Mayport Co: Duval FL 32228-

Landholding Agency: Navy

Property Number: 77200120007

Status: Unutilized

Reason: Extensive deterioration.

Bldg. 370

Naval Station

Mayport Co: Duval FL 32228-

Landholding Agency: Navy

Property Number: 77200120008

Status: Unutilized

Reason: Extensive deterioration.

Bldg. 2012

Naval Station

Mayport Co: Duval FL 32228-

Landholding Agency: Navy

Property Number: 77200120009

Status: Unutilized

Reason: Extensive deterioration.

Maint/Carpentry Shop

USCG Station

St. Petersburg Co: Pinellas FL 33701-

Landholding Agency: DOT

Property Number: 87200120001

Status: Excess

Reasons: Secured Area. Extensive deterioration.

Maryland

Bldg. 867

Naval Air Station

Patuxent River Co: MD 20670-

Landholding Agency: Navy

Property Number: 77200120010

Status: Excess

Reason: Extensive deterioration.

Bldg. 868

Naval Air Station

Patuxent River Co: MD 20670-

Landholding Agency: Navy

Property Number: 77200120011

Status: Excess

Reason: Extensive deterioration.

Bldg. 1044

Naval Air Station

Patuxent River Co: MD 20670-

Landholding Agency: Navy

Property Number: 77200120012

Status: Excess

Reason: Extensive deterioration.

5 Bldgs.

USCG Yard #9, 21, 23, 52, 57

Baltimore Co: MD 21226-

Landholding Agency: DOT

Property Number: 87200120002

Status: Unutilized

Reason: Extensive deterioration.

Michigan

Station Bldg.

USCG Station

Manistee Co: MI 49660-

Landholding Agency: DOT

Property Number: 87200120003

Status: Unutilized

Reasons: Floodway. Secured Area.

Garage Bldg.

USCG Station

Manistee Co: MI 49660-

Landholding Agency: DOT

Property Number: 87200120004

Status: Unutilized

Reasons: Floodway. Secured Area.

Shed/Pump Bldg.

USCG Station

Manistee Co: MI 49660-

Landholding Agency: DOT

Property Number: 87200120005

Status: Unutilized

Reasons: Floodway. Secured Area.

Storage Bldg.

USCG Station

Manistee Co: MI 49660-

Landholding Agency: DOT

Property Number: 87200120006

Status: Unutilized

Reasons: Floodway. Secured Area.

New Jersey

Ames Cabin

Old Mine Road

Walpack Co: Sussex NJ 07881-

Landholding Agency: Interior

Property Number: 61200120001

Status: Unutilized

Reason: Extensive deterioration.

Jennings House

Old Mine Road

Walpack Co: Sussex NJ 07881-

Landholding Agency: Interior

Property Number: 61200120002

Status: Unutilized

Reason: Extensive deterioration.

Lester Cabin

Old Mine Road

Walpack Co: Sussex NJ 07881-

Landholding Agency: Interior

Property Number: 61200120003

Status: Unutilized

Reason: Extensive deterioration.

Cassidy Cabin

Blue Mountain Lakes Rd.

Layton Co: Sussex NJ 07851-

Landholding Agency: Interior

Property Number: 61200120004

Status: Unutilized

Reason: Extensive deterioration.

Chalker House & Garage

Skyline Drive

Layton Co: Sussex NJ 07851-

Landholding Agency: Interior

Property Number: 61200120005

Status: Unutilized

Reason: Extensive deterioration.

Waldman House

14 Walpack-Flatbrookville Rd.

Layton Co: Sussex NJ 07851-

Landholding Agency: Interior

Property Number: 61200120006

Status: Unutilized

Reason: Extensive deterioration.

Myra House

Off Mountain Rd.

Smithfield Twnshp Co: Monroe NJ 18327-

Landholding Agency: Interior

Property Number: 61200120007

Status: Unutilized

Reason: Extensive deterioration.

Pennsylvania

Schneider Cottage

Route 209

Dingman's Ferry Co: Pike PA 18328-

Landholding Agency: Interior

Property Number: 61200120008

Status: Unutilized

Reason: Extensive deterioration.

Schneider Farmhouse

Route 209

Dingman's Ferry Co: Pike PA 18328-

Landholding Agency: Interior

Property Number: 61200120009

Status: Unutilized

Reason: Extensive deterioration.

Schneider Garage/Shop

Route 209

Dingman's Ferry Co: Pike PA 18328-

Landholding Agency: Interior

Property Number: 61200120010

Status: Unutilized

Reason: Extensive deterioration.

Vayda House & Garage

Mary Stuart Rd.

Dingman's Ferry Co: Pike PA 18328-

Landholding Agency: Interior

Property Number: 61200120011

Status: Unutilized

Reason: Extensive deterioration.

Tennessee

Army Reserve Center #2

360 Ornamental Metal Museum Dr.

Memphis Co: Shelby TN 38106-

Landholding Agency: GSA

Property Number: 54200120004

Status: Surplus

Reasons: 2000 ft. of flammable or explosive material. Extensive deterioration

GSA Number: 4-D-TN-0650.

6 Bldgs.

Naval Support Activity

#2003, 2016, 2024, 2025, 2076, 2077

Millington Co: TN 38054-

Landholding Agency: Navy

Property Number: 77200120013

Status: Excess

Reason: Secured Area.

Texas

Bldg. 1149

Naval Air Station

Ft. Worth Co: Tarrant TX 76127-6200

Landholding Agency: Navy

Property Number: 77200120014

Status: Unutilized

Reason: Extensive deterioration.

Bldg. 4200

Naval Air Station

Ft. Worth Co: Tarrant TX 76127-6200

Landholding Agency: Navy

Property Number: 77200120015

Status: Unutilized

Reason: Extensive deterioration.

Bldg. 1173

Naval Air Station

Ft. Worth Co: Tarrant TX 76127-6200

Landholding Agency: Navy

Property Number: 772200120016

Status: Unutilized

Reason: Extensive deterioration.

Bldg. 1268

Naval Air Station

Ft. Worth Co: Tarrant TX 76127-6200

Landholding Agency: Navy

Property Number: 772200120017

Status: Unutilized

Reason: Extensive deterioration.

Bldg. 1837

Naval Air Station

Ft. Worth Co: Tarrant TX 76127-6200

Landholding Agency: Navy

Property Number: 772200120018

Status: Unutilized

Reason: Extensive deterioration.

Virginia

Bldg. 375

Norfolk Naval Shipyard

Norfolk Co: VA 23511-2699

Landholding Agency: Navy

Property Number: 772200120019

Status: Excess

Reasons: Within 2000 ft. of flammable or explosive material. Floodway. Secured Area. Extensive deterioration.

Bldg. 376

Norfolk Naval Shipyard

Norfolk Co: VA 23511-2699

Landholding Agency: Navy

Property Number: 772200120020

Status: Excess

Reasons: Within 2000 ft. of flammable or explosive material. Floodway. Secured Area. Extensive deterioration.

Bldg. 482

Norfolk Naval Shipyard

Norfolk Co: VA 23511-2699

Landholding Agency: Navy

Property Number: 772200120021

Status: Excess

Reasons: Within 2000 ft. of flammable or explosive material. Floodway. Secured Area. Extensive deterioration.

Bldg. 483

Norfolk Naval Shipyard

Norfolk Co: VA 23511-2699

Landholding Agency: Navy

Property Number: 772200120022

Status: Excess

Reasons: Within 2000 ft. of flammable or explosive material. Floodway. Secured Area. Extensive deterioration.

Bldg. 3531

Naval Amphibious Base

Norfolk Co: VA 223521-3229

Landholding Agency: Navy

Property Number: 772200120023

Status: Excess

Reason: Extensive deterioration.

Bldg. 13

Naval Weapons Station

Yorktown Co: VA 23691-

Landholding Agency: Navy

Property Number: 772200120024

Status: Excess

Reasons: Within 2000 ft. of flammable or explosive material. Secured Area. Extensive deterioration.

Bldg. 14

Naval Weapons Station

Yorktown Co: VA 2369-

Landholding Agency: Navy

Property Number: 772200120025

Status: Excess

Reasons: Within 2000 ft. of flammable or explosive material. Secured Area. Extensive deterioration.

Bldg. 22

Naval Weapons Station

Yorktown Co: VA 23691-

Landholding Agency: Navy

Property Number: 772200120026

Status: Excess

Reasons: Within 2000 ft. of flammable or explosive material. Secured Area. Extensive deterioration.

Bldg. 23

Naval Weapons Station

Yorktown Co: VA 23691-

Landholding Agency: Navy

Property Number: 772200120027

Status: Excess

Reasons: Within 2000 ft. of flammable or explosive material. Secured Area. Extensive deterioration.

Bldg. 70

Naval Weapons Station

Yorktown Co: VA 23691-

Landholding Agency: Navy

Property Number: 77200120028

Status: Excess

Reasons: Within 2000 ft. of flammable or explosive material. Secured Area. Extensive deterioration.

Bldg. 87

Naval Weapons Station

Yorktown Co: VA 23691-

Landholding Agency: Navy

Property Number: 77200120029

Status: Excess

Reasons: Within 2000 ft. of flammable or explosive material. Secured Area. Extensive deterioration.

Bldg. 88

Naval Weapons Station

Yorktown Co: VA 23691-

Landholding Agency: Navy

Property Number: 77200120030

Status: Excess

Reasons: Within 2000 ft. of flammable or explosive material. Secured Area. Extensive deterioration.

Bldg. 118

Naval Weapons Station

Yorktown Co: VA 23691-

Landholding Agency: Navy

Property Number: 77200120031

Status: Excess

Reasons: Within 2000 ft. of flammable or explosive material. Secured Area. Extensive deterioration.

Bldg. 385

Naval Weapons Station

Yorktown Co: VA 23691-

Landholding Agency: Navy

Property Number: 77200120032

Status: Excess

Reasons: Within 2000 ft. of flammable or explosive material. Secured Area. Extensive deterioration.

Bldg. 396A

Naval Weapons Station

Yorktown Co: VA 23691-

Landholding Agency: Navy

Property Number: 77200120033

Status: Excess

Reasons: Within 2000 ft. of flammable or explosive material. Secured Area. Extensive deterioration.

Bldg. 492

Naval Weapons Station

Yorktown Co: VA 23691-

Landholding Agency: Navy

Property Number: 77200120034

Status: Excess

Reasons: Secured Area. Extensive deterioration.

Bldg. 507

Naval Weapons Station

Yorktown Co: VA 23691-

Landholding Agency: Navy

Property Number: 77200120035

Status: Excess

Reasons: Within 2000 ft. of flammable or explosive material. Secured Area.

Bldg. 612

Naval Weapons Station

Yorktown Co: VA 23691-

Landholding Agency: Navy

Property Number: 77200120036

Status: Excess

Reasons: Within 2000 ft. of flammable or explosive material. Secured Area. Extensive deterioration.

Bldg. 1224

Naval Weapons Station

Yorktown Co: VA 23691-

Landholding Agency: Navy

Property Number: 77200120037

Status: Excess

Reasons: Within 2000 ft. of flammable or explosive material. Secured Area. Extensive deterioration.

Bldg. 1225

Naval Weapons Station

Yorktown Co: VA 23691-

Landholding Agency: Navy

Property Number: 77200120038

Status: Excess

Reasons: Within 2000 ft. of flammable or explosive material. Secured Area. Extensive deterioration.

Bldg. 1226

Naval Weapons Station

Yorktown Co: VA 23691-

Landholding Agency: Navy

Property Number: 77200120039

Status: Excess

Reasons: Within 2000 ft. of flammable or explosive material. Secured Area. Extensive deterioration.

Bldg. 1227

Naval Weapons Station

Yorktown Co: VA 23691-

Landholding Agency: Navy

Property Number: 77200120040

Status: Excess

Reasons: Within 2000 ft. of flammable or explosive material. Secured Area. Extensive deterioration.

Bldg. 1228

Naval Weapons Station

Yorktown Co: VA 23691-

Landholding Agency: Navy

Property Number: 77200120041

Status: Excess

Reasons: Within 2000 ft. of flammable or explosive material. Secured Area. Extensive deterioration.

Bldg. 1587

Naval Weapons Station

Yorktown Co: VA 23691-

Landholding Agency: Navy

Property Number: 77200120042

Status: Excess

Reasons: Within 2000 ft. of flammable or explosive material. Secured Area. Extensive deterioration.

Bldg. 1588

Naval Weapons Station

Yorktown Co: VA 23691-

Landholding Agency: Navy

Property Number: 77200120043

Status: Excess

Reasons: Within 2000 ft. of flammable or explosive material. Secured Area. Extensive deterioration.

Bldg. 1589

Naval Weapons Station

Yorktown Co: VA 23691-

Landholding Agency: Navy

Property Number: 77200120044

Status: Excess

Reasons: Within 2000 ft. of flammable or explosive material. Secured Area. Extensive deterioration.

Bldg. 1590

Naval Weapons Station

Yorktown Co: VA 23691-

Landholding Agency: Navy

Property Number: 77200120045

Status: Excess

Reasons: Within 2000 ft. of flammable or explosive material. Secured Area. Extensive deterioration.

Bldg. 1591

Naval Weapons Station

Yorktown Co: VA 23691-

Landholding Agency: Navy

Property Number: 77200120046

Status: Excess

Reasons: Within 2000 ft. of flammable or explosive material. Secured Area. Extensive deterioration.

Bldg. 1612

Naval Weapons Station

Yorktown Co: VA 23691-

Landholding Agency: Navy

Property Number: 77200120047

Status: Excess

Reasons: Secured Area. Extensive deterioration.

Structure 1743

Naval Weapons Station

Yorktown Co: VA 23691-

Landholding Agency: Navy

Property Number: 77200120048

Status: Excess

Reasons: Within 2000 ft. of flammable or explosive material. Secured Area. Extensive deterioration.

Bldg. 103B

Naval Weapons Station

Yorktown Co: VA 23691-

Landholding Agency: Navy

Property Number: 77200120049

Status: Excess

Reasons: Secured Area. Extensive deterioration.

Bldg. B109

Naval Surface Warfare Center

Dalgren Co: King George VA 22448-

Landholding Agency: Navy

Property Number: 77200120050

Status: Unutilized

Reason: Extensive deterioration.

Bldg. B112

Naval Surface Warfare Center

Dalgren Co: King George VA 22448-

Landholding Agency: Navy

Property Number: 77200120051

Status: Unutilized

Reason: Extensive deterioration.

Bldg. 123

Naval Surface Warfare Center

Dalgren Co: King George VA 22448-

Landholding Agency: Navy

Property Number: 77200120052

Status: Unutilized

Reason: Extensive deterioration.

Bldg. B132

Naval Surface Warfare Center

Dalgren Co: King George VA 22448-

Landholding Agency: Navy

Property Number: 77200120053

Status: Unutilized

Reason: Extensive deterioration.

Bldg. B157

Naval Surface Warfare Center

Dalgren Co: King George VA 22448-

Landholding Agency: Navy

Property Number: 77200120054

Status: Unutilized

Reason: Extensive deterioration.

Bldg. 170A

Naval Surface Warfare Center

Dalgren Co: King George VA 22448-

Landholding Agency: Navy

Property Number: 77200120055

Status: Unutilized

Reason: Extensive deterioration.

Bldg. B239

Naval Surface Warfare Center

Dalgren Co: King George VA 22448-

Landholding Agency: Navy

Property Number: 77200120056

Status: Unutilized

Reason: Extensive deterioration.

Bldg. B362

Naval Surface Warfare Center

Dalgren Co: King George VA 22448-

Landholding Agency: Navy

Property Number: 77200120057

Status: Unutilized

Reason: Extensive deterioration.

Bldg. B396

Naval Surface Warfare Center

Dalgren Co: King George VA 22448-

Landholding Agency: Navy

Property Number: 77200120058

Status: Unutilized

Reason: Extensive deterioration.

Bldg. B402

Naval Surface Warfare Center

Dalgren Co: King George VA 22448-

Landholding Agency: Navy

Property Number: 77200120059

Status: Unutilized

Reason: Extensive deterioration.

Bldg. B425

Naval Surface Warfare Center

Dalgren Co: King George VA 22448-

Landholding Agency: Navy

Property Number: 77200120060

Status: Unutilized

Reason: Extensive deterioration.

Bldg. B428

Naval Surface Warfare Center

Dalgren Co: King George VA 22448-

Landholding Agency: Navy

Property Number: 77200120061

Status: Unutilized

Reason: Extensive deterioration.

Bldg. B451

Naval Surface Warfare Center

Dalgren Co: King George VA 22448-

Landholding Agency: Navy

Property Number: 77200120062

Status: Unutilized

Reason: Extensive deterioration.

Bldg. B465

Naval Surface Warfare Center

Dalgren Co: King George VA 22448-

Landholding Agency: Navy

Property Number: 77200120063

Status: Unutilized

Reason: Extensive deterioration.

Bldg. B1100

Naval Surface Warfare Center

Dalgren Co: King George VA 22448-

Landholding Agency: Navy

Property Number: 77200120064

Status: Unutilized

Reason: Extensive deterioration.

Bldg. B1124

Naval Surface Warfare Center

Dalgren Co: King George VA 22448-

Landholding Agency: Navy

Property Number: 77200120065

Status: Unutilized

Reason: Extensive deterioration.

Bldg. B9411

Naval Surface Warfare Center

Dalgren Co: King George VA 22448-

Landholding Agency: Navy

Property Number: 77200120066

Status: Unutilized

Reason: Extensive deterioration.

Bldg. B9429

Naval Surface Warfare Center

Dalgren Co: King George VA 22448-

Landholding Agency: Navy

Property Number: 77200120067

Status: Unutilized

Reason: Extensive deterioration.

Tracks

Naval Surface Warfare Center

Dalgren Co: King George VA 22448-

Landholding Agency: Navy

Property Number: 77200120068

Status: Unutilized

Reason: Extensive deterioration.

Washington

Brundage Cabin

3003 Camp David Jr. Rd.

Port Angeles Co: Clallam WA 98362-

Landholding Agency: Interior

Property Number: 61200120014

Status: Unutilized

Reason: Extensive deterioration.

Nigro Cabin

2805 East Beach Rd.

Port Angeles Co: Clallam WA 98363-

Landholding Agency: Interior

Property Number: 61200120015

Status: Unutilized

Reason: Extensive deterioration.

West Virginia

Akers House

River Road

Hinton Co: Raleigh WV 25951

Landholding Agency: Interior

Property Number: 61200120016

Status: Excess

Reason: Extensive deterioration.

Wickline House

River Road

Hinton Co: Raleigh WV 25951-

Landholding Agency: Interior

Property Number: 61200120017

Status: Excess

Reason: Extensive deterioration.

Burdett Cabin

Army Camp Road

Prince Co: Fayette WV 25907-

Landholding Agency: Interior

Property Number: 61200120018

Status: Excess

Reason: Extensive deterioration.

[FR Doc. 01-10184 Filed 4-26-01; 8:45 am]

BILLING CODE 4210-29-M